DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 26, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Summer Food Service Program.

OMB Control Number: 0584-0280.

Summary of Collection: The Richard B. Russell National School Lunch Act (NSLA) (42 U.S.C. 1751 et seq.) authorizes the Summer Food Service Program (SFSP) 7 CFR part 225. Section 10 of the Child Nutrition Act of 1966 (CNA) (Pub. L. 111-296) requires the Secretary of Agriculture to prescribe such regulations as deemed necessary to carry out Child Nutrition Programs authorized under the NSLA and CNA. The SFSP is directed toward children in low-income areas when school is not in session and is administered by FNS in partnership with State agencies and local program sponsors. FNS published a final rule, “Child Nutrition Programs: Meal Patterns Consistent with the 2020-2025 Dietary Guidelines for Americans” (RIN 0584-AE88) in the Federal Register on April 25, 2024 (89 FR 31962) which introduces a new recordkeeping requirement for the SFSP. Under the SFSP, FNS is required to develop nutrition requirements that are consistent with the goals of the most recent Dietary Guidelines for Americans. In addition, SFSP sponsors are required by regulation to comply with the meal requirements. This rulemaking finalizes long-term school, institution, and facility nutrition requirements based on the most recent Dietary Guidelines for Americans and feedback from Child Nutrition Program stakeholders. The final rule allows SFSP sponsors, including non-profit institutions and camps, that serve primarily American Indian or Alaska Native children to serve vegetables to meet the grains requirement. FNS is also accounting for start-up costs of $10,000 for the SFSP operators associated with menu changes because of this final rule.

FNS is publishing a 30-Day Notice for this final rule submission because the agency changed how the requirement and burden change were submitted for approval in the final rule from what was used in the proposed rule. Due to uncertain timing of the rules in conjunction with the renewal of OMB Control Number 0584-0006, FNS decided to request a new OMB control number for the collections related to the rule and later merge them into the existing information collections that are related to these requirements. By the time of the final rule, however, OMB Control Number 0584-0006 was renewed, so FNS decided to switch to revisions of the existing collections, rather than requesting a new OMB control number. OMB reviewed the proposed submission as “filed with comment” on March 21, 2023, and assigned the preliminary OMB Control Number 0584-0679 to the collection. However, because FNS decided to submit revisions to the existing information collections, this preliminary OMB control number was not used for the final rule submission.

Need and Use of the Information: The revisions to this ongoing information collection are due to the final rule, “Child Nutrition Programs: Meal Patterns Consistent with the 2020-2025 Dietary Guidelines for Americans”, which amends Program regulations and introduces a new recordkeeping requirement into this collection. SFSP program sponsors, including non-profit institutions and camps, must maintain documentation required by this rule. This final rule contains an information requirement that is required to obtain or retain a benefit. The SFSP sponsors (institutions and camps) are required to maintain documentation to show that they are eligible, when they are serving primarily American Indian or Alaska Native children, to implement the menu planning options to serve vegetables to meet the grains requirement. Maintaining these records ensures program integrity. FNS uses this information to ensure compliance with the final rule requirements concerning this menu planning option.

Description of Respondents: Individuals/Households, State, Local or Tribal Government; Non-profit Business Institutions.

Number of Respondents: 63,942.

Frequency of Responses: Reporting; Recordkeeping: On Occasion.

Total Burden Hours: 462,724.

Rachelle Ragland-Greene,
Departmental Information Collection Clearance Officer.

[FR Doc. 2024-19138 Filed 8-26-24; 8:45 am]

BILLING CODE 3410-30-P